DEPARTMENT OF DEFENSE

Office of the Secretary

[Transmittal Nos. 14-25]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-25 with attached transmittal, policy justification, and sensitivity of technology.

Dated: June 27, 2014.
Aaron Siegel,
Alternate OSD Federal Register Liaison Officer, Department of Defense.

Transmittal No. 14-25

Notice of Proposed Issuance of Letter of Offer Pursuant to Section 36(b)(1) of the Arms Export Control Act, as amended

(i) Prospective Purchaser: Mexico

(ii) Total Estimated Value:

Major Defense Equipment* | $125 million
Other | $100 million
Total | $225 million

(iii) Description and Quantity or Quantities of Articles or Services under Consideration for Purchase: 5 UH-60M Black Hawk Helicopters in standard USG configuration with designated unique equipment and Government Furnished Equipment (GFE), 13 T700-GE-701D Engines (10 installed and 3 spares), 12 Embedded Global Positioning Systems/Inertial Navigation Systems (10 installed and 2 spares), 10 M134 7.62mm Machine Guns, 5 Star Safire III Forward Looking Infrared Radar Systems, 1 Aviation Mission Planning System, and 1 Aviation Ground Power Unit. Also included are communication equipment including AN/ARC-210 RT-8100 series radios, Identification Friend or Foe (IFF) systems, aircraft warranty, air worthiness support, facility construction, spare and repair parts, support equipment, communication equipment, publications and technical documentation, personnel training and training equipment, site surveys, tool and test equipment, U.S. Government and contractor technical and logistics support services, and other related elements of program, technical and logistics support.

(iv) Military Department: Army (UEU)

(v) Prior Related Cases, if any: FMS case UEJ-$110M-3Mar10

(vi) Sales Commission, Fee, etc., Paid, Offered, or Agreed to be Paid: None

(vii) Sensitivity of Technology Contained in the Defense Article or Defense Services Proposed to be Sold: See Attached Annex

(viii) Date Report Delivered to Congress: 24 June 2014

* as defined in Section 47(6) of the Arms Export Control Act

POLICY JUSTIFICATION

Mexico—UH-60M Black Hawk Helicopters

The Government of Mexico has requested a possible sale of 5 UH-60M Black Hawk Helicopters in standard USG configuration with designated unique equipment and Government Furnished Equipment (GFE), 13 T700-GE-701D Engines (10 installed and 3 spares), 12 Embedded Global Positioning Systems/Inertial Navigation Systems (10 installed and 2 spares), 10 M134 7.62mm Machine Guns, 5 Star Safire III Forward Looking Infrared Radar Systems, 1 Aviation Mission Planning System, and 1 Aviation Ground Power Unit. Also included are communication equipment including AN/ARC-210 RT-8100 series radios, Identification Friend or Foe (IFF) systems, aircraft warranty, air worthiness support, facility construction, spare and repair parts, support equipment, publications and technical documentation, personnel training and training equipment, site surveys, tool and test equipment, U.S. Government and contractor technical and logistics support services, and other related elements of program, technical and logistics support. The estimated cost is $225 million.

This proposed sale will contribute to the foreign policy and national security of the United States by helping to improve the security of a strategic partner. Mexico has been a strong partner in combating organized crime and drug trafficking organizations. The sale of these UH-60M helicopters to Mexico will significantly increase and strengthen its capability to provide in-country airlift support for its forces engaged in counter-drug operations.

Mexico intends to use these defense articles and services to modernize its armed forces and expand its existing naval/maritime support in its efforts to combat drug trafficking organizations.

The proposed sale of this equipment and support will not alter the basic military balance in the region.

The principal contractors will be Sikorsky Aircraft Company in Stratford, Connecticut; and General Electric Aircraft Company (GEAC) in Lynn, Massachusetts. There are no known offset agreements in connection with this potential sale.

Implementation of this proposed sale may require the assignment of an additional three U.S. Government and five contractor representatives in country full-time to support the delivery and training for approximately two years.

There will be no adverse impact on U.S. defense readiness as a result of this proposed sale.

Transmittal No. 14-25

Notice of Proposed Issuance of Letter of Offer Pursuant to Section 36(b)(1) of the Arms Export Control Act

Annex, Item No. vii

(vii) Sensitivity of Technology:

1. The UH-60M Black Hawk helicopter is a medium lift aircraft which includes two T700-GE-701D Engines. The Navigation System for each helicopter will have Embedded Global Positioning System/Inertial Navigation System (EGIs), two Digital Advanced Flight Control Systems (DAFCS), one ARN-149 Automatic Direction Finder, one ARN-147 (VOR/ILS marker Beacon System), one ARN-153 Tactical Navigation (TACAN), two air data computers, one Star Safire III Forward Looking Infrared Radar System, and one Radar Altimeter system. The communication equipment will include the AN/APX-118 or AN/APX-123 Identification Friend of Foe (IFF) system. The AN/ARC-210 RT-8100 Series Very/Ultra High Frequency (V/UHF) radio will be included in the UH-60M configuration. Exportable High Frequency or Single Channel Ground and Airborne Radio System (SINCGARS) radio capability may be included in the future.

2. The AN/APX-118 or AN/APX-123 Identification Friend or Foe (IFF) Transponder is capable of Modes 1, 2, 3, 3a and 4. The system is Unclassified unless loaded with IFF Mode 4 keying material, in which case it will become classified Secret.

3. The AN/ARC-210 RT-8100 Series radio is a V/UHF voice and data capable radio using commercial encryption.

4. The Embedded Global Positioning System/Inertial Navigation System (EGI) unit H-764G provides GPS and INS capabilities to the aircraft. The EGI will include Selective Availability anti-Spoofing Module (SAASM) security modules to be used for secure GPS Precise Positioning Service if required.

5. The Star Safire III Forward Looking Infrared Radar System is a long-range, multi-sensor infrared imaging radar system. It is considered non-standard equipment for the UH-60 Black Hawk helicopter. It will be used to enhance night flying and provide a level of safety for the VIP passengers during night flights. The hardware is Unclassified. Rangefinder performance and signal transfer function for the Infrared Imager are considered Confidential.

6. If a technologically advanced adversary were to obtain knowledge of the specific hardware and software elements, the information could be used to develop countermeasures or equivalent systems which might reduce weapon system effectiveness or be used in the development of a system with similar or advanced capabilities.

7. A determination has been made that the recipient country can provide the same degree of protection for the sensitive technology being released as the U.S. Government. This sale is necessary in furtherance of the U.S. foreign policy and national security objectives outlined in the Policy Justification.

8. All defense articles and services listed in this transmittal have been authorized for release and export to the Government of Mexico.

[FR Doc. 2014-15597 Filed 7-2-14; 8:45 am]

BILLING CODE 5001-06-P